DEPARTMENT OF EDUCATION

Office of Special Education and Rehabilitative Services; List of Correspondence

AGENCY: Department of Education.

ACTION: List of correspondence from July 1, 2000 through September 30, 2000.

SUMMARY: The Secretary is publishing the following list pursuant to section 607(d) of the Individuals with Disabilities Education Act (IDEA). Under section 607(d) of IDEA, the Secretary is required, on a quarterly basis, to publish in the Federal Register a list of correspondence from the Department of Education received by individuals during the previous quarter that describes the interpretations of the Department of Education of IDEA or the regulations that implement IDEA.

FOR FURTHER INFORMATION CONTACT: Melisande Lee or JoLeta Reynolds. Telephone: (202) 205-5507. If you use a telecommunications device for the deaf (TDD) you may call (202) 205-5465 or the Federal Information Relay Service (FIRS) at 1-800-877-8339.

Individuals with disabilities may obtain a copy of this notice in an alternative format (e.g., Braille, large print, audiotape, or computer diskette) on request to Katie Mincey, Director of the Alternate Formats Center. Telephone: (202) 205-8113.

SUPPLEMENTARY INFORMATION: The following list identifies correspondence from the Department issued between July 1, 2000 through September 30, 2000.

Included on the list are those letters that contain interpretations of the requirements of IDEA and its implementing regulations, as well as letters and other documents that the Department believes will assist the public in understanding the requirements of the law and its regulations. The date and topic addressed by a letter are identified, and summary information is also provided, as appropriate. To protect the privacy interests of the individual or individuals involved, personally identifiable information has been deleted, as appropriate.

Part A—General Provisions

Section 602—Definitions

Topic Addressed: Child With a Disability

• Letter dated July 25, 2000 to individual, (personally identifiable information redacted), regarding the provision of appropriate instructional methodologies, educational services, and placements under individualized education programs (IEP) for children with autism.

Part B—Assistance for Education of All Children With Disabilities

Section 611—Authorization; Allotment; Use of Funds; Authorization of Appropriations.

Section 619—Preschool Grants.

Topic Addressed: Allocation of Grants

• Letter dated July 28, 2000 to Wyoming Department of Education Special Programs Unit Director, Rebecca Walk, regarding Wyoming's implementation of the new Preschool Grants and Grants to States formulas and the options available for distribution of funds under sections 611 and 619.

• Letter dated September 18, 2000 to Arizona Superintendent of Public Instruction, Lisa Graham Keegan, regarding adjustments to Arizona's distribution of the population payment allocation under sections 611 and 619.

Topic Addressed: Use of Funds

• Letter dated July 20, 2000 to U.S. Senator John Breaux regarding the availability of Part B funds to purchase playground equipment.

• Letter dated September 21, 2000 to Louisiana State Director of Special Education, Virginia C. Beridon, regarding the availability of pre-award costs and Part B funds under the Cash Management Improvement Act of 1990 and the Education Department General Administrative Regulations (EDGAR).

Topic Addressed: Authorization of Appropriations

• Memorandum dated August 29, 2000 to Governors and Chief State School Officers regarding nonregulatory guidance pertaining to Federal education programs, including section 611 of IDEA, with advance appropriations in fiscal year (FY) 2000.

Section 612—State Eligibility

Topic Addressed: Free Appropriate Public Education

• Letter dated August 22, 2000 to Illinois State Board of Education Special Education Director, Dr. Gordon M. Riffel, regarding the availability of compensatory education services after the right to a free appropriate public education (FAPE) has terminated.

Topic Addressed: Procedural Safeguards

• OSEP memorandum 00-20 dated July 17, 2000 to Chief State School Officers regarding State complaint resolution procedures under Part B of IDEA.

• Letter dated July 25, 2000 to U.S. Representative Sue Myrick regarding options available to parents to resolve disputes relating to the identification, evaluation, educational placement, or provision of FAPE to a child with a disability and in addressing such concerns as they relate to an existing school's compliance with the IDEA's least restrictive environment requirements.

Topic Addressed: Confidentiality

• Letter dated July 20, 2000 to the Honorable Kenneth Apfel, Social Security Administration Commissioner, regarding applicability of the Family Educational Rights and Privacy Act's (FERPA) consent and IDEA, Part B's confidentiality provisions to disclosure of personally identifiable information contained in education records in order to determine the eligibility of children with disabilities for benefits under the Supplemental Security Income program.

Topic Addressed: General Supervision

• Letter dated June 20, 2000 to U.S. Congressman Charles W. Stenholm regarding the flexibility Federal regulations provide States in establishing due process and alternative dispute resolution mechanisms.

Topic Addressed: Assessments

• OSEP memorandum 00-24 dated August 24, 2000 to State Directors of Special Education clarifying requirements for including students with disabilities in State and district-wide assessments.

Section 613—Local Educational Agency Eligibility

Topic Addressed: Charter Schools

• Letter dated July 20, 2000 to individual, (personally identifiable information redacted), regarding the status of charter schools established as local educational agencies (LEAs) in the District of Columbia, a jurisdiction that performs both State and local functions, and the procedural safeguards available to parents of children with disabilities who attend these charter schools.

Section 615—Procedural Safeguards

Topic Addressed: Manifestation Determination Review

• Letter dated July 25, 2000 to David P. Osterhout clarifying the circumstances that constitute a change in placement that would trigger a manifestation determination review and the use of positive behavioral interventions, strategies, and supports to address the needs of students with behavioral issues.

Topic Addressed: Transfer of Rights

• Letter dated July 20, 2000 to Kansas State Department of Education General Counsel, Rodney J. Bieker, regarding the circumstances under which a school district can, without the consent of the student to whom educational rights have transferred, invite the student's parents to an IEP meeting or disclose information from the student's educational records to the parents.

Topic Addressed: Student Discipline

• Letter dated August 3, 2000 to Kansas State Department of Education General Counsel, Rodney J. Bieker, regarding calculating disciplinary removals of up to 10 school days in determining whether a change in placement has occurred.

• Letter dated August 11, 2000 to U.S. Representative J.D. Hayworth regarding the options available to school authorities in disciplining students with disabilities under IDEA, Part B and the Americans with Disabilities Act and whether parents of other students have the right to be notified of incidents involving unusual or threatening behavior by students with disabilities given the confidentiality requirements under IDEA, Part B and FERPA.

PART C—Infants and Toddlers with Disabilities

Sections 631-641

Topic Addressed: Definitions

• Letter dated September 18, 2000 to Illinois Department of Human Services Secretary, Linda Renee Baker, regarding the State's inability to serve as a “parent” under the Part C regulatory definition for a child who is a “ward” of the State.

Topic Addressed: Early Intervention Services

• Letter dated August 16, 2000 to Bureau of Indian Affairs Education Specialist, Julie Goings, regarding the role and responsibilities of the Bureau of Indian Affairs, States and tribes in providing services to children with disabilities from birth to age five who are members of the tribe.

Topic Addressed: Infant or Toddler With a Disability

• Letter dated September 25, 2000 to individual, (personally identifiable information redacted), regarding the flexibility Part C provides States in defining the developmental delay category of eligibility of infants and toddlers with disabilities and in establishing standards that exceed Federal requirements.

Topic Addressed: Procedural Safeguards

• OSEP memorandum 00-21 dated July 17, 2000 to Chief State School Officers regarding guidance on State complaint resolution procedures under Part C of IDEA.

Topic Addressed: Federal Interagency Coordinating Council

• Letter dated August 11, 2000 regarding application of Section 644 of the IDEA and other Federal requirements to activities of the Federal Interagency Coordinating Council.

Part D—National Activities To Improve Education of Children With Disabilities

Subpart 1—State Program Improvement Grants for Children With Disabilities

Section 653—Applications

Topic Addressed: Information About State Program Improvement Grants

• OSEP memorandum 00-25 dated September 28, 2000 to State Directors of Special Education regarding the State Improvement Grant application process and procedures.

Other Letters Relevant to the Administration of Idea Programs

Topic Addressed: Disability Harassment

• Dear Colleague Letter dated July 25, 2000 providing an overview of the existing legal and educational principles related to disability harassment.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the previous sites. If you have questions about using PDF, call the U.S. Government Printing Office (GPO), toll free, at 1-800-293-6498; or in the Washington, DC, area at (202) 512-1530.

Note: The official version of this document is published in the Federal Register. Free Internet access to the official edition of the Federal Register and the Code of Federal Regulations is available on GPO Access at:

http://www.access.gpo.gov/nara/index.html

(Catalog of Federal Domestic Assistance Number 84.027, Assistance to States for Education of Children with Disabilities)

Dated: March 5, 2001.
Andrew J. Pepin,
Executive Administrator, Office of Special Education and Rehabilitative Services.

[FR Doc. 01-5778 Filed 3-8-01; 8:45 am]

BILLING CODE 4000-01-P